SMALL BUSINESS ADMINISTRATION

Meeting of the Advisory Committee on Veterans Business Affairs

AGENCY: U.S. Small Business Administration.

ACTION: Notice of open Federal Advisory Committee meeting.

SUMMARY: The SBA is issuing this notice to announce the location, date, time, and agenda for the next meeting of the Advisory Committee on Veterans Business Affairs. The meeting will be open to the public.

DATES: Wednesday, June 10, 2015 from 9 a.m. to 4 p.m.

ADDRESSES: U.S. Small Business Administration, 409 3rd Street SW., Washington, DC 20416.

Room: Eisenhower Conference room A, located on the Concourse Level Floor.

SUPPLEMENTARY INFORMATION: Pursuant to section 10(a) (2) of the Federal Advisory Committee Act (5 U.S.C., Appendix 2), SBA announces the meeting of the Advisory Committee on Veterans Business Affairs. The Advisory Committee on Veterans Business Affairs serves as an independent source of advice and policy recommendation to the Administrator of the U.S. Small Business Administration.

Purpose: The full committee meeting will focus on business opportunities for veterans and service disabled veterans. Several topics include government procurement and business development. For information regarding our veterans' resources and partners, please visit our Web site at www.sba.gov/vets.

Additional Information: The meeting is open to the public, however, advance notice of attendance is requested. Anyone wishing to attend and/or make a presentation to the Advisory Committee must contact Cheryl Simms, by June 4, 2015, by email below in order to be placed on the agenda. Comments for the Record including verbal presentations, should be emailed prior to the meeting for inclusion in the public record comments will be limited to five minutes in the interest of time and to accommodate as many presenters as possible. Written comments should be emailed to Cheryl Simms, Program Liaison, Office of Veterans Business Development, U.S. Small Business Administration, 409 3rd Street SW., Washington, DC 20416.

Additionally, if participants need accommodations because of a disability or require additional information, please contact Cheryl Simms, Designated Federal Official for the Advisory Committee on Veterans Business Affairs at (202) 205-6773; or by email at cheryl.simms@sba.gov. For more information, please visit our Web site at www.sba.gov/vets.

Dated: May 8, 2015.
Miguel J. L'Heureux,
SBA Committee Management Officer.

[FR Doc. 2015-12037 Filed 5-18-15; 8:45 am]

BILLING CODE P